DEPARTMENT OF HEALTH AND HUMAN SERVICES

Centers for Medicare & Medicaid Services

Privacy Act of 1974; Report of a New Routine Use for a CMS System of Records

AGENCY: Centers for Medicare & Medicaid Services (CMS), Department of Health and Human Services (HHS).

ACTION: Altered System Notice, Adding a New Routine Use for a CMS System of Records.

SUMMARY: In accordance with the requirements of the Privacy Act of 1974 (5 U.S.C. 552a), CMS is adding a new routine use to the existing system of records titled Enrollment Data Base (EDB), System No. 09-70-0502, last modified 73 Federal Register 10249 (February 26, 2008), to assist with transmitting data to the Internal Revenue Service (IRS) for 10958 processing.

The new routine use will authorize CMS to disclose information maintained in the system “to the IRS for the purposes of reporting Medicare Part A enrollment information and to provide statements to the individual enrollees with respect to whom information is reported to the IRS. Disclosures made pursuant to the routine use will be coordinated through CMS' Division of Medicare Enrollment Coordination, Medicare Enrollment and Appeals Group, Center for Medicare.

DATES: Effective Dates: The new routine use described in this notice will become effective without further notice 30 days after publication of this notice in the Federal Register, unless comments are received that warrant revisions to this Notice. Written comments should be submitted within 30 days.

ADDRESSES: The public should address comments to: CMS Privacy Officer, Division of Security, Privacy Policy and Governance, Information Security and Privacy Group, Office of Enterprise Information, CMS, 7500 Security Boulevard, Baltimore, MD 21244-1870, Mailstop: N 1-24-08, Office: (410) 786-5357 or via email: walter.stone@cms.hhs.gov. Comments received will be available for review at this location, by appointment, during regular business hours, Monday through Friday from 9:00 a.m.-3:00 p.m., Eastern Time zone.

FOR FURTHER INFORMATION CONTACT: Roland Herrera, Health Insurance Specialist, Division of Medicare Enrollment Coordination, Medicare Enrollment and Appeals Group, CMS Center for Medicare, 7500 Security Boulevard, Mail Stop C2-12-16, Baltimore, MD 21244, Office phone: 410.786.0668, Facsimile: 443.380.5418, Email: roland.herrara@cms.hhs.gov.

SUPPLEMENTARY INFORMATION: CMS is required to produce reports and statements of enrollment in Medicare Part A to confirm enrollment in minimum essential coverage under Section 6055 of the Affordable Care Act. The enrollment information must be provided to the IRS for tax administration purposes to enable the IRS to properly assess tax returns filed to ensure that Medicare Part A Enrollees are not assessed a tax penalty for not beenrolled in health care coverage.

For the reason explained above, the following routine use is added to Enrollment Data Base (EDB), System No. 09-70-0502:

11. To the IRS for the purposes of reporting Medicare Part A enrollment information and to provide statements to the individual enrollees with respect to whom information is reported to the IRS.

Celeste Dade-Vinson,
Health Insurance Specialist, Centers for Medicare & Medicaid Services.

[FR Doc. 2016-03241 Filed 2-17-16; 8:45 am]

BILLING CODE 4120-03-P